DEPARTMENT OF AGRICULTURE

Agricultural Research Service

Notice of Federal Invention Available for Licensing and Intent To Grant Exclusive License

AGENCY: Agricultural Research Service, USDA.

ACTION: Notice of availability and intent.

SUMMARY: Notice is hereby given that the invention disclosed in U.S. Patent No. 6,184,246, “Inhibition of Cytokine Production by Polymethoxylated Flavones,” issued on February 6, 2001, is available for licensing and that the U.S. Department of Agriculture, Agricultural Research Service, intends to grant to Next Pharmaceuticals, Inc. of Irvine, California, an exclusive license to the Federal Government's current patent rights and any patent rights that it subsequently may acquire in this joint invention.

DATES: Comments must be received on or before January 8, 2004.

ADDRESSES: Send comments to: USDA, ARS, Office of Technology Transfer, 5601 Sunnyside Avenue, Room 4-1174, Beltsville, Maryland 20705-5131.

FOR FURTHER INFORMATION CONTACT: June Blalock of the Office of Technology Transfer at the Beltsville address given above; telephone: 301-504-5989.

SUPPLEMENTARY INFORMATION: The Federal Government's patent rights in this joint invention are assigned to the United States of America, as represented by the Secretary of Agriculture. It is in the public interest to so license this invention as Next Pharmaceuticals, Inc. has submitted a complete and sufficient application for a license. The prospective exclusive license will be royalty-bearing and will comply with the terms and conditions of 35 U.S.C. 209 and 37 CFR 404.7. The prospective exclusive license may be granted unless, within ninety (90) days from the date of this published Notice, the Agricultural Research Service receives written evidence and argument which establishes that the grant of the license would not be consistent with the requirements of 35 U.S.C. 209 and 37 CFR 404.7.

Michael D. Ruff,
Assistant Administrator.

[FR Doc. 03-25789 Filed 10-9-03; 8:45 am]

BILLING CODE 3410-03-P